DEPARTMENT OF THE INTERIOR

Bureau of Land Management

[NV-055-5853-EU]

Notice of Realty Action: Competitive Sale of Public Lands in Clark, Lander, and Elko Counties, NV

AGENCY: Bureau of Land Management, Interior.

ACTION: Notice of realty action.

SUMMARY: The Bureau of Land Management (BLM) proposes to sell 74 parcels of federal land in Clark County, Nevada, aggregating approximately 4,320.82 acres. The BLM also proposes to offer for sale two parcels of federal land in Lander County and one parcel in Elko County, aggregating approximately 359.16 acres. The sale will be conducted in Las Vegas, Nevada, on February 2, 2005, in accordance with competitive bidding procedures.

DATES: Comments regarding the proposed sale must be received by BLM on or before December 27, 2004.

Sealed bids must be received by BLM not later than 4:30 p.m., P.s.t., January 26, 2005.

All parcels of land proposed for sale are to be put up for purchase and sale, at public auction, beginning at 10 a.m., P.s.t., February 2, 2005. Registration for oral bidding for those who have not pre-registered will begin at 8 a.m., P.s.t., February 2, 2005 and will end at 10 a.m., P.s.t.

Other deadline dates for the receipt of payments, and arranging for certain payments to be made by electronic transfer, are specified in the proposed terms and conditions of sale, as stated herein.

ADDRESSES: Comments regarding the proposed sale, as well as sealed bids to be submitted to BLM, should be addressed to: Field Manager, Las Vegas Field Office, Bureau of Land Management, 4701 N. Torrey Pines Drive, Las Vegas, Nevada 89130.

More detailed information regarding the proposed sale and the lands involved may be reviewed during normal business hours (7:30 a.m. to 4:30 p.m.) at the BLM Las Vegas Field Office (LVFO).

The address for oral bidding registration, and the location of the public auction, is: Cashman Center, 850 Las Vegas Boulevard North, Las Vegas, NV 89101.

The auction will take place in the Cashman Theater located southwest of the Cashman Center Stadium with entrance to the Theater between Parking Lots “B” and “C”. Registration will take place in the Theater Lobby.

Directions to the Cashman Center from Boulder City, Henderson, or the Southeast Area of Las Vegas: Take U.S. 95 North. Exit on Las Vegas Blvd. North. Turn right on Washington Ave. Turn right on Washington to Cashman Center (850 Las Vegas Blvd. North).

Directions to the Cashman Center from Reno or the Northwest Area of Las Vegas: Take U.S. 95 South. Exit Las Vegas Blvd. North (Las Vegas Blvd/Cashman Center). Turn left to Cashman Center (850 Las Vegas Blvd. North). Cashman Center charges a $3 per vehicle parking fee. Parking Passes are provided for your convenience in the Sale Packet. Present the Pass to the attendant when you enter the parking area. If you don't have a Pass you will be required to pay the fee. There will be no exceptions.

FOR FURTHER INFORMATION CONTACT: You may contact Judy Fry, Program Lead, SALES at (702) 515-5081 or by e-mail at jfry@nv.blm.gov. You may also call (702) 515-5000 and ask to have your call directed to a member of the Sales Team.

SUPPLEMENTARY INFORMATION: The following lands in Clark County, Nevada, are proposed for sale and have been authorized and designated for disposal under the Southern Nevada Public Land Management Act of 1998 (112 Stat. 2343), as amended by the Clark County Conservation of Public Land and Natural Resources Act of 2002 (116 Stat. 1994), (hereinafter “SNPLMA”). These lands include seven (7) parcels in Clark County that were identified for sale at previous auctions, but did not sell because they did not receive any bids, or the sales were cancelled due to default. The seven (7) parcels identified as N-65894, N-65897, N-65956, N-66702, N-74826, N-74836 and N-77340 contain 20.00 acres, more or less. These parcels will be auctioned under the terms and conditions of this Notice of Realty Action.

Mount Diablo Meridian, Nevada

T. 19 S., R. 59 E.,

Sec. 1, Lots 37 and 38; NE¼NW¼SW¼NE¼, SE¼NW¼SW¼NE¼, SW¼NE¼SE¼NE¼, NE¼NW¼SE¼NE¼, SW¼SW¼SE¼NE¼, SE¼SW¼SE¼NE¼, SE¼NW¼SE¼NE¼, NE¼SW¼SE¼NE¼, NW¼SW¼SE¼NE, NE¼NE¼NW¼SW¼, SW¼NE¼NW¼SW¼, SE¼NE¼NW¼SW¼, NW¼NE¼NW¼SW¼, NW¼NW¼NE¼SE¼, SW¼NW¼NE¼SE¼, NE¼NW¼NE¼SE¼, SE¼NW¼NE¼SE¼;

Sec. 2, NW¼SW¼SW¼NE¼, SW¼SW¼SW¼NE¼, NE¼SE¼SW¼NW¼, SE¼SE¼SW¼NW¼, NE¼SW¼SE¼NW¼, SE¼SW¼SE¼NW¼, NW¼NE¼NE¼SW¼, SW¼NE¼NE¼SW¼, NW¼NW¼NE¼SW¼, SW¼NW¼NE¼SW¼, NE¼NE¼SW¼SW¼, N½SE¼NE¼SW¼SW¼;

Sec. 3, NW¼SE¼SW¼SE¼, SW¼SE¼SW¼SE¼, SE¼SE¼SW¼SE¼SE¼, S½SW¼SE¼SE¼SE¼, SE¼SE¼SE¼SE¼;

Sec. 10, NE¼NW¼NE¼NE¼, SE¼NW¼NE¼NE¼;

Sec. 12, Lots 1-16.

T. 19 S., R. 60 E.,

Sec. 6, Lots 12-30;

Sec. 7, Lots 6, 8, 9, 10, 11, 12, 14, 16, 18, 19, 20, 21;

Sec. 29, NW¼SW¼NW¼NW¼, SW¼SW¼NW¼NW¼, NW¼NW¼SW¼NW¼, SW¼NW¼SW¼NW¼.

T. 19 S., R. 61 E.

Sec. 14, Lots 1-16;

Sec. 15, Lots 1-10, 12-18;

Sec. 16, Lots 1-6, 8-12, 14-22;

Sec. 21, Lots 1, 2, 3, 6, 7, 8;

Sec. 23, Lots 1-4, 6-10.

T. 20 S., R. 60 E.,

Sec. 28, W½NE¼SW¼SW¼.

T. 21 S., R. 60 E.,

Sec. 18, NE¼SW¼SW¼SE¼.

T. 22 S., R. 60 E.,

Sec. 12, E½SW¼SE¼NE¼, SW¼SE¼SE¼NE¼, SW¼NE¼NE¼SW¼. N½NW¼NE¼SW¼;

T. 22 S., R. 60 E.,

Sec. 14, NW¼SW¼NW¼SW¼;

Sec. 19, S½SW¼NE¼SW¼NE¼, NW¼SW¼SW¼NE¼, NW¼SE¼SW¼NE¼, SW¼NE¼SE¼NE¼, N½SE¼SE¼NE¼, SW¼NW¼SW¼NE¼, NE¼NW¼SE¼NW¼, NW¼SW¼SE¼SW¼, SW¼SW¼SE¼SW¼, SW¼SE¼SE¼SW¼, SE¼SW¼SE¼SW¼;

Sec. 21, SE¼NE¼SW¼NE¼, NW¼SW¼SW¼NE¼, NE¼SW¼SW¼NE¼, NW¼SE¼SW¼NE¼, NE¼SE¼SW¼NE¼, NE¼SW¼SE¼NE¼, NW¼SW¼SE¼NE¼, NE¼SE¼SE¼NE¼, NW¼SE¼SE¼NE¼, NE¼SE¼SE¼NW¼, NW¼SE¼SE¼NW¼, SE¼NE¼SE¼NW¼;

Sec. 22, E½NE¼SE¼SW¼SW¼;

Sec. 24, W½SE¼NE¼NW¼NE¼, N½SW¼NW¼SE¼NE¼, SE¼SE¼NE¼NW¼;

Sec. 35, NW¼NE¼NE¼, W½NE¼NE¼NE¼;

T. 22 S., R. 61 E.,

Sec. 10, Lot 15;

Sec. 14, W½NW¼SE¼SE¼NE¼;

Sec. 28, Lot 102;

Sec. 29, NE¼SW¼SW¼NE¼.

Consisting of 74 parcels containing 4,320.99 acres, more or less.

The following lands in Lander and Elko Counties, Nevada are proposed for sale. They have been identified for disposal in the Elko Resource Management Plan, approved in March, 1987, and, therefore, meet the disposal qualification of section 205 of the Federal Land Transaction Facilitation Act of July 25, 2000 (43 U.S.C. 2301, 2304, hereinafter “LTFA”). The purpose of the proposed sale is to dispose of lands that are difficult and uneconomic to manage as part of the public lands; and it has been determined that the public interest will be served by putting up these lands for purchase and sale at public auction. These lands were previously identified for sale at an auction in Elko, Nevada on September 15, 2004, but did not receive any bids. They consist of three (3) parcels identified as N-77171, N-77176 and N-77177 and contain a total of 359.16 acres, more or less. The three (3) parcels will be auctioned under the terms and conditions of this Notice of Realty Action.

Mount Diablo Meridian, Nevada

T. 32 N., R. 44 E.,

Sec. 2, Lots 3 and 4, SE¼NW¼;

T. 34 N., R. 44 E.,

Sec. 36, NE¼;

T. 34 N., R. 55 E.,

Sec. 24, W½NE¼.

Consisting of 3 parcels containing 359.16 acres, more or less.

All of the above described lands, in Clark, Lander and Elko Counties, are proposed to be put up for purchase and sale at a competitive oral auction on February 2, 2005, in accordance with the applicable provisions of Section 203 and Section 209 of the Federal Land Policy and Management Act of 1976 (FLPMA) (43 U.S.C. 1713 and 1719), respectively, and its implementing regulations, 43 C.F.R. Part 2710 and Part 2720, at not less than the fair market value (FMV) of each parcel, as determined by the authorized officer after an appraisal. The proceeds from the sale of the parcels in Clark County will be deposited into the SNPLMA Special Account. The proceeds from the sale of the parcels in Lander and Elko Counties will be deposited into the Federal Land Disposal Account, pursuant to FLTFA.

If a parcel of land in Clark County is sold, the locatable mineral interests therein will be sold simultaneously as part of the sale. The lands identified for sale in Clark County have no known locatable mineral value with the exception of parcel N-78214. An offer to purchase all other parcels in Clark County will constitute an application for conveyance of the locatable mineral interests. In conjunction with the final payment, the applicant will be required to pay a $50.00 non-refundable filing fee for processing the conveyance of the locatable mineral interests. In the case of parcel N-78214, locatable minerals will be reserved along with leasable and saleable minerals and the $50.00 filing fee will not be collected.

Terms and Conditions of Sale

The terms and conditions applicable to this sale are as follows:

1. All discretionary leaseable and saleable mineral deposits are reserved to the United States on the lands in Clark County; but, permittees, licensees, and lessees retain the right to prospect for, mine, and remove such minerals owned by the United States under applicable law and any regulations that the Secretary of the Interior may prescribe, including all necessary access and exit rights. All minerals are reserved to the United States on the lands in Lander and Elko Counties and parcel N-78214 in Clark County; but, permittees, licensees, and lessees retain the right to prospect for, mine, and remove such minerals owned by the United States under applicable law and any regulations that the Secretary of the Interior may prescribe, including all necessary access and exit rights.

2. A right-of-way is reserved for ditches and canals constructed by authority of the United States under the Act of August 30, 1890 (43 U.S.C. 945).

3. All parcels are subject to valid existing rights. Parcels may also be subject to applications received prior to publication of this Notice if processing the application would have no adverse effect on the marketability of the federally approved Fair Market Value (FMV) of a parcel. Encumbrances of record, appearing in the BLM public files for the parcels proposed for sale, are available for review during business hours, 7:30 a.m. p.s.t. to 4:30 p.m. p.s.t., Monday through Friday, at the BLM LVFO.

4. All parcels are subject to reservations for roads, public utilities and flood control purposes, both existing and proposed, in accordance with the local governing entities' Transportation Plans.

5. No warranty of any kind, express or implied, is given by the United States as to the title, physical condition or potential uses of the parcels of land proposed for sale; and the conveyance of any such parcel will not be on a contingency basis. However, to the extent required by law, all such parcels are subject to the requirements of section 120(h) of the Comprehensive Environmental Response Compensation and Liability Act, as amended (CERCLA) (42 U.S.C. 9620(h)).

6. All purchasers/patentees, by accepting a patent, covenant and agree to indemnify, defend, and hold the United States harmless from any costs, damages, claims, causes of action, penalties, fines, liabilities, and judgments of any kind or nature arising from the past, present, and future acts or omissions of the patentees or their employees, agents, contractors, or lessees, or any third-party, arising out of or in connection with the patentees' use, occupancy, or operations on the patented real property. This indemnification and hold harmless agreement includes, but is not limited to, acts and omissions of the patentees and their employees, agents, contractors, or lessees, or any third party, arising out of or in connection with the use and/or occupancy of the patented real property which has already resulted or does hereafter result in: (1) Violations of federal, state, and local laws and regulations that are now or may in the future become, applicable to the real property; (2) Judgments, claims or demands of any kind assessed against the United States; (3) Costs, expenses, or damages of any kind incurred by the United States; (4) Releases or threatened releases of solid or hazardous waste(s) and/or hazardous substances(s), as defined by federal or state environmental laws, off, on, into or under land, property and other interests of the United States; (5) Activities by which solids or hazardous substances or wastes, as defined by federal and state environmental laws are generated, released, stored, used or otherwise disposed of on the patented real property, and any cleanup response, remedial action or other actions related in any manner to said solid or hazardous substances or wastes; or (6) Natural resource damages as defined by federal and state law. This covenant shall be construed as running with the parcels of land patented or otherwise conveyed by the United States, and may be enforced by the United States in a court of competent jurisdiction.

7. Maps delineating the individual proposed sale parcels are available for public review at the BLM LVFO. Large aerial photos showing the locations of all the sale parcels are available for purchase at the BLM LVFO. Current appraisals for each parcel are available for public review at the LVFO.

8. (a) Parcels N-78216 and N-78217 will only be put up for purchase and sale at the oral auction. Sealed bids for these parcels will not be accepted. If these parcels are not sold at the oral auction, they will not be offered later on an online Internet auction.

8. (b) Sealed bids may be presented for all other parcels. Sealed bids must be received at the BLM LVFO, no later than 4:30 p.m., p.s.t., January 26, 2005. Sealed bid envelopes must be marked on the lower front left corner with the BLM Serial Number for the parcel and the sale date. Bids must be for not less than the federally approved FMV and a separate bid must be submitted for each parcel.

8. (c) Each sealed bid shall be accompanied by a certified check, money order, bank draft, or cashier's check made payable in U.S. dollars to the order of the Bureau of Land Management, for not less than 10 percent or more than 30 percent of the amount bid. The highest qualified sealed bid for each parcel will become the starting bid at the oral auction. If no sealed bids are received, oral bidding will begin at the FMV, as determined by the authorized officer.

9. All parcels will be offered for competitive sale by oral auction beginning at 10 a.m., p.s.t., February 2, 2005, at Cashman Theater inside Cashman Center, located at 850 Las Vegas Boulevard North, Las Vegas, NV. Interested parties who will not be bidding are not required to register and may proceed directly to the Cashman Theater. If you are at the auction to conduct business with the high bidders or are there to observe the process, should seating become limited, you may be asked to relinquish your seat in order to provide seating for all bidders before the auction begins. We will try to provide an audio/visual transmission outside the theater for your convenience.

10. All oral bidders are required to register. Registration for oral bidding will begin at 8 a.m. p.s.t. on the day of the sale and will end at 10 a.m. p.s.t. You are encouraged to pre-register by mail or fax by completing the form located in the Sale Packet. The form is also available at the BLM LVFO and on the Internet at http://www.nv.blm.gov/SNPLMA.

11. Prior to receiving a bidder number on the day of the sale, all registered bidders must submit a certified check, bank draft, or cashier's check in the amount of $10,000. The check must be made payable to the order of the Bureau of Land Management. On the day of the sale, pre-registered bidders may go to the Express Registration Desk, present their Photo Identification Card, the required $10,000 check, and receive a bidder number. All other bidders must go to the standard Registration Line where additional information will be requested along with your Photo Identification Card and the required $10,000 check. Upon completion of registration you will be given a bidder number. If you are a successful bidder, the $10,000 will be applied to your required 20 percent deposit. For parcels N-78216 and N-78217, arrangements may be made for Electronic Fund Transfer (EFT) of the 20 percent deposit by notifying BLM no later than January 14, 2005 of your intent to use EFT.

12. If you purchase one or more parcels and default on any single parcel, the default will be against all of your parcels. BLM will retain your $10,000 and the sale of all parcels to you will be cancelled. Following the auction, checks will be returned to the unsuccessful bidders upon presentation of their Photo Identification at the designated area.

13. The highest qualifying bid for any parcel, whether sealed or oral, will be declared the high bid. The apparent high bidder, if an oral bidder, must submit a deposit of not less than 20 percent of the successful bid by 4:30 p.m. p.s.t. on the day of the sale in the form of cash, personal check, bank draft, cashiers check, money order or any combination thereof, made payable in U.S. dollars to the Bureau of Land Management. If not paid by close of the auction, funds must be delivered no later than 4:30 p.m. p.s.t. the day of the sale to the BLM Collection Officers at the Cashman Theater.

14. Oral bids will be considered only if received at the place of sale and made at least for the FMV as determined by the BLM authorized officer. For parcels designated Serial Numbers N-78216 and N-78217 specifically, each prospective bidder will be required to present a certified check, postal money order, bank draft or cashier's check made payable in U.S. dollars to the Bureau of Land Management for an amount of money which shall be no less than 20 percent of the federally approved FMV of the designated parcels, in order to be eligible to bid on each respective parcel. In order to bid on both designated parcels listed, a separate certified check, postal money order, bank draft or cashier's check for an amount of money which shall be no less than 20 percent of the federally approved FMV for each designated parcel will be required. Both check(s) must be made payable in U.S. dollars to the order of the Bureau of Land Management.

15. The remainder of the full bid price for each parcel, whether sealed or oral bid, must be paid within 180 calendar days of the competitive sale date in the form of a certified check, money order, bank draft, or cashier's check made payable in U.S. dollars to the Bureau of Land Management. Personal checks will not be accepted. Arrangements for Electronic Fund Transfer (EFT) to BLM for the balance which is due on or before August 2, 2005, should be made a minimum of two weeks prior to the date you wish to make payment. Failure to pay the full price within the 180 days will disqualify the apparent high bidder and cause the entire bid deposit to be forfeited to the BLM.

16. The BLM may accept or reject any or all offers, or withdraw any parcel of land or interest therein from sale, if, in the opinion of the BLM authorized officer, consummation of the sale would not be fully consistent with FLPMA or other applicable laws or are determined to not be in the public interest.

Additional Information

If not sold, any parcel described above in this Notice may be identified for sale at a later date without further legal notice. Unsold parcels, with the exception of parcels N-78216 and N-78217, may be offered for sale in a future online auction on the Internet. Internet auction procedures will be available at http://www.auctionrp.com. If unsold on the Internet, parcels may be put up for sale at future auctions without additional legal notice. Upon publication of this Notice and until the completion of the sale, the BLM is no longer accepting land use applications affecting any parcel identified for sale, including parcels that have been published in a previous Notice of Realty Action. However, land use applications may be considered after completion of the sale for parcels that are not sold through sealed, oral, or online Internet auction procedures provided the authorization will not adversely affect the marketability or value of the parcel.

Federal law requires bidders to be U.S. citizens 18 years of age or older; a corporation subject to the laws of any State or of the United States; a State, State instrumentality, or political subdivision authorized to hold property, or an entity legally capable of conveying lands or interests therein under the laws of the State of Nevada. Certification of qualification, including citizenship or corporation or partnership, must accompany the bid deposit.

In order to determine the value, through appraisal, of the parcels of land proposed to be sold, certain extraordinary assumptions may have been made of the attributes and limitations of the lands and potential effects of local regulations and policies on potential future land uses. Through publication of this Notice, the Bureau of Land Management gives notice that these assumptions may not be endorsed or approved by units of local government. It is the buyer's responsibility to be aware of all applicable local government policies, laws, and regulations that would affect the subject lands, including any required dedication of lands for public uses. It is also the buyer's responsibility to be aware of existing or projected use of nearby properties. When conveyed out of federal ownership, the lands will be subject to any applicable reviews and approvals by the respective unit of local government for proposed future uses, and any such reviews and approvals will be the responsibility of the buyer. Any land lacking access from a public road or highway will be conveyed as such, and future access acquisition will be the responsibility of the buyer.

Detailed information concerning the sale, including the reservations, sale procedures and conditions, CERCLA and other environmental documents will be available for review at the BLM LVFO, or by calling (702) 515-5114.

This information also will be available on the Internet at: (1) http://propertydisposal.gsa.gov. Click on NV for Nevada and (2) http://www.nv.blm.gov. Click on Southern Nevada Public Land Management Act and go to Land Sales.

The land offered in this sale in Clark County, along with all other available public land in the Las Vegas Valley is being analyzed in an Environmental Impact Statement (EIS), titled Las Vegas Land Disposal EIS. The document is located on the Internet at http://www.nv.blm.gov/lvdiseis. The Notice of Availability (NOA) of the draft EIS was published on September 10, 2004, commencing a 60 day comment period which ends November 9, 2004. Currently, it is expected that the NOA for the final EIS will be published in early December, 2004. Following publication of the NOA for the final EIS, there will be a 30 day availability period prior to any Record of Decision being signed by BLM. Comments submitted during the 45 day comment period for this NORA pertaining to the sufficiency of the draft EIS will not be considered unless submitted by November 9, 2004, the closing of the comment period for the draft EIS. The Environmental Analysis (EA) and Decision Record for the lands offered in this sale in Lander and Elko Counties was signed on November 5, 2003, and is available for review in the BLM LVFO.

Public Comments: The general public and interested parties may submit comments regarding the proposed sale to the Field Manager, BLM LVFO, up to 45 days after publication of this Notice in the Federal Register. However, all comments regarding the sufficiency of the draft EIS must be submitted within the comment period for the draft which closes on November 9, 2004. Any adverse comments regarding the proposed sale will be reviewed by the Nevada BLM State Director or other authorized official of the Department, who may sustain, vacate, or modify this realty action in whole or in part. Any comments received during this process, as well as the name and address of the commentor, will be available to the public in the administrative record and/or pursuant to a Freedom of Information Act request. You may indicate for the record that you do not wish to have your name and/or address made available to the public. Any determination by the Bureau of Land Management to release or withhold the names and/or addresses of those who comment will be made on a case-by-case basis. A request from a commentor to have their name and/or address withheld from public release will be honored to the extent permissible by law.

Dated: October 1, 2004.
Mark R. Chatterton,
Acting Field Manager.

[FR Doc. 04-25235 Filed 11-10-04; 8:45 am]

BILLING CODE 4310-HC-P